DEPARTMENT OF THE INTERIOR

Bureau of Land Management

[AK-921-1410-BK-P]

Notice for Publication, Filing of Plat of Survey; AK

1. The plats of survey of the following described lands were officially filed in the Alaska State Office, Anchorage, Alaska, on the date indicated.

A plat representing the corrective resurvey of a portion of the subdivisional lines and a portion of the subdivision of section lines of Township 17 North, Range 3 East, Seward Meridian, Alaska, was accepted June 29, 2005, and was officially filed July 8, 2005.

This plat was prepared at the request of the State of Alaska, Department of Natural Resources.

2. This plat will immediately become the basic record for describing the land for all authorized purposes. This survey has been placed in the open files in the Alaska State Office and is available to the public as a matter of information.

3. All inquires relating to these lands should be sent to the Alaska State Office, Bureau of Land Management, Division of Cadastral Survey, 222 West Seventh Avenue #13, Anchorage, Alaska 99513-7599; 907-267-1403.

Daniel L. Johnson,
Chief, Branch of Field Surveys.

[FR Doc. 05-15118 Filed 7-29-05; 8:45 am]

BILLING CODE 1410-BK-P